DEPARTMENT OF DEFENSE

Office of the Secretary

[Transmittal Nos. 14-20]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-20 with attached transmittal, and policy justification.

Dated: September 24, 2014.
Aaron Siegel,
Alternate OSD Federal Register Liaison Officer, Department of Defense.

BILLING CODE 5001-06-P

BILLING CODE 5001-06-C

Transmittal No. 14-20

Notice of Proposed Issuance of Letter of Offer Pursuant to Section 36(b)(1) of the Arms Export Control Act, as amended

(i) Prospective Purchaser: Lebanon

(ii) Total Estimated Value:

Major Defense Equipment* | $ 0 million
Other | $180 million
TOTAL | $180 million

(iii) Description and Quantity or Quantities of Articles or Services under Consideration for Purchase: 18 Huey II rotary wing aircraft, spare and repair parts, maintenance, support equipment, publications and technical documentation, personnel training and training equipment, repair and return, aircraft preparation for shipment, ferry and refueling support, component improvement program, U.S. Government and contractor engineering and logistics support services, and other related elements of logistics support.

(iv) Military Department: Army (WBL, Amendment #1)

(v) Prior Related Cases, if any:

FMS case WBL-$58M-9Dec12

FMS case UZU-$8M-20Dec96

FMS case JAE-$18M-3Jan95

(vi) Sales Commission, Fee, etc., Paid, Offered, or Agreed to be Paid: None

(vii) Sensitivity of Technology Contained in the Defense Article or Defense Services Proposed to be Sold: None.

(viii) Date Report Delivered to Congress: 17 Sep 14

* as defined in Section 47(6) of the Arms Export Control Act.

POLICY JUSTIFICATION

Lebanon—Huey II Rotary Wing Aircraft and Support

The Government of Lebanon has requested a possible sale of 18 Huey II rotary wing aircraft, spare and repair parts, maintenance, support equipment, publications and technical documentation, personnel training and training equipment, repair and return, aircraft preparation for shipment, ferry and refueling support, component improvement program, U.S. Government and contractor engineering and logistics support services, and other related elements of logistics support.

The estimated cost is $180 million.

This proposed sale serves U.S. national, economic, and security interests by providing Lebanon with mobility capabilities needed to maintain internal security, enforce United Nation's Security Council Resolutions 1559 and 1701, and counter terrorist threats.

The proposed sale of these aircraft will enable Lebanon to meet present and future challenges posed by internal and border security threats, evacuations, search and rescue, and drug interdiction operations. The Huey II will augment Lebanon's recently-purchased Huey II aircraft, help replace its aging fleet of UH-1H aircraft and provide the Lebanese Armed Forces with mission-capable assets. Lebanon will have no difficulty absorbing these additional aircraft into its armed forces.

The proposed sale of these vehicles and support will not alter the basic military balance in the region.

The prime contractor will be Bell Helicopter in Fort Worth, Texas. There are no known offset agreements proposed in connection with this potential sale.

Implementation of this proposed sale will require multiple trips to Lebanon involving U.S. Government and contractor representatives over a period of up to three years to provide program support and training.

There will be no adverse impact on U.S. defense readiness as a result of this proposed sale.

[FR Doc. 2014-23074 Filed 9-26-14; 8:45 am]

BILLING CODE 5001-06-P